DEPARTMENT OF THE INTERIOR

National Park Service

Saratoga National Historical Park, Saratoga County, New York; Notice of Intent to Prepare an Environmental Impact Statement and Notice of Public Meetings

In accordance with the National Environmental Policy Act of 1969 (P. L.91-109 section 102(c)), the National Park Service (NPS) is preparing an Environmental Impact Statement (EIS) for the Saratoga National Historical Park (NHP), located in the towns of Stillwater, and Saratoga, Saratoga County, New York. The purpose of the EIS is to assess the impacts of alternative management strategies that will be described in the general management plan for Saratoga NHP. A range of alternatives will be formulated for natural and cultural resource protection, visitor use and interpretation, facilities development, and operations.

The NPS will hold two (2) public meetings during the week of March 27, 2000 which will provide an opportunity for public input into the scoping for the GMP/EIS. On Tuesday, March 28, 2000 at 4 p.m., a meeting will be held at the Stillwater Community Center, Community Room, 19 Palmer Street in Stillwater, New York. On Wednesday, March 29 at 7:00 PM, a meeting will be held at the Schuylerville School Administration Office, 18 Spring Street (Route 29) in Schuylerville, New York. The purpose of these meetings is to obtain both written and verbal comments concerning the future direction and development of Saratoga NHP. Those persons who wish to comment verbally or in writing or who require further information should contact Doug Lindsay, Superintendent, Saratoga NHP, 648 Route 32, Stillwater, NY 12170, (518) 664-9821.

The draft GMP/EIS is expected to be completed and available for public review in late 2001. After public and interagency review of the draft document comments will be considered, and a final EIS will be prepared, followed by a Record of Decision.

Dated: February 22, 2000.
Douglas Lindsay,
Superintendent, Saratoga National Historical Park.

[FR Doc. 00-6111 Filed 3-10-00; 8:45 am]

BILLING CODE 4310-GJ-P